DEPARTMENT OF ENERGY

Federal Energy Regulatory Commission

Combined Notice of Filings

Take notice that the Commission has received the following Natural Gas Pipeline Rate and Refund Report filings:

Docket Number: CP21-10-000.

Applicants: Tennessee Gas Pipeline Company, L.L.C.

Description: Abbreviated Joint Application for Authorization to Abandon Emergency Exchange Service of Tennessee Gas Pipeline Company, L.L.C., et al. under CP21-10.

Filed Date: 11/2/2020.

Accession Number: 202011025124.

Comments/Protests Due: 5 p.m. ET 11/23/2020.

Docket Number: PR21-4-000.

Applicants: Columbia Gas of Ohio, Inc.

Description: Submits tariff filing per 284.123(b),(e)/: COH Rates effective 10-27-2020 to be effective 10/27/2020.

Filed Date: 11/4/2020.

Accession Number: 202011045030.

Comments/Protests Due: 5 p.m. ET 11/25/2020.

Docket Number: PR21-5-000.

Applicants: Moss Bluff Hub, LLC.

Description: Submits tariff filing per 284.123(b),(e)/: Moss Bluff LINK URL Conversion Filing to be effective 12/1/2020.

Filed Date: 11/5/2020.

Accession Number: 202011055026.

Comments/Protests Due: 5 p.m. ET 11/27/2020.

Docket Numbers: RP21-200-000.

Applicants: Rover Pipeline LLC.

Description: § 4(d) Rate Filing: Fuel Filing on 11-5-20 to be effective 11/1/2020.

Filed Date: 11/5/20.

Accession Number: 20201105-5061.

Comments Due: 5 p.m. ET 11/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2020.
Nathaniel J. Davis, Sr.,
Deputy Secretary.

[FR Doc. 2020-25206 Filed 11-13-20; 8:45 am]

BILLING CODE 6717-01-P